DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995, this notice announces the intention of the National Agricultural Statistics Service (NASS) to request revision and extension of a currently approved information collection, the Current Agricultural Industrial Reports (CAIR) program.

DATES: Comments on this notice must be received by February 10, 2026 to be assured of consideration.

ADDRESSES: You may submit comments, identified by docket number 0535-0254, by any of the following methods:

• Email: ombofficer@nass.usda.gov. Include docket number above in the subject line of the message.

• eFax: (855) 838-6382.

• Mail: Mail any paper, disk, or CD-ROM submissions to: NASS OMB Clearance Officer, U.S. Department of Agriculture, Room 5336 South Building, 1400 Independence Avenue SW, Washington, DC 20250-2024.

• Hand Delivery/Courier: Hand deliver to: NASS OMB Clearance Officer, U.S. Department of Agriculture, Room 5336 South Building, 1400 Independence Avenue SW, Washington, DC 20250-2024.

FOR FURTHER INFORMATION CONTACT: Jody R. McDaniel, Associate Administrator, National Agricultural Statistics Service, U.S. Department of Agriculture, (202) 720-2707. Copies of this information collection and related instructions can be obtained without charge from NASS OMB Clearance Officer, at (202) 720-2206 or at ombofficer@nass.usda.gov.

SUPPLEMENTARY INFORMATION:

Title: Current Agricultural Industrial Reports (CAIR).

OMB Control Number: 0535-0254.

Expiration Date of Approval: June 30, 2026.

Type of Request: To revise and extend a currently approved information collection for a period of three years.

Abstract: NASS began collecting data for the Current Agricultural Industrial Reports (CAIR) program in the latter half of 2014, replacing a portion of the Current Industrial Reports (CIR) program (0607-0476) previously conducted by the U.S. Census Bureau. The CIR program was discontinued on April 30, 2012, and included 47 different surveys.

The CAIR program produces four separate publications that provide critical data on the utilization of U.S. agricultural commodities. These include crop data on acreage, production, prices, and stocks (e.g., grains, oilseeds, cotton, nuts), as well as livestock and poultry data on production, slaughter, prices, and cold storage volumes. CAIR data also inform how these commodities are processed into products such as fuels, cooking oils, flour, and fabric—offering a more complete picture of agriculture's role in the U.S. economy.

Primary users of the data include government agencies, regulatory bodies, trade associations, business firms, and research organizations. The USDA World Agricultural Outlook Board (WAOB), Bureau of Economic Analysis (BEA), and Bureau of Labor Statistics (BLS) use the data for GDP estimation, productivity analysis, and industrial monitoring.

NASS will use the information collected solely for statistical purposes and will publish only aggregated data.

Authority: The census of agriculture and subsequent follow-on censuses are required by law under the “Census of Agriculture Act of 1997,” 7 U.S.C. 2204(g). Individually identifiable data collected under this authority are governed by Section 1770 of the Food Security Act of 1985 as amended, 7 U.S.C. 2276, which requires USDA to afford strict confidentiality to non-aggregated data provided by respondents. This Notice is submitted in accordance with the Paperwork Reduction Act of 1995, Public Law 104-13 and Office of Management and Budget regulations at 5 CFR part 1320.

All NASS employees and NASS contractors must also fully comply with all provisions of the Confidential Information Protection and Statistical Efficiency Act (CIPSEA) of 2018, Title III of Public Law 115-435, codified in 44 U.S.C. Ch. 35. CIPSEA supports NASS's pledge of confidentiality to all respondents and facilitates the agency's efforts to reduce burden by supporting statistical activities of collaborative agencies through designation of NASS agents, subject to the limitations and penalties described in CIPSEA.

Estimate of Burden: The public reporting burden for this information collection is estimated to average between 10 and 40 minutes per response. Publicity materials and instruction sheets are expected to contribute approximately 15 minutes of burden per respondent annually. To support response rates, NASS will send email and text reminders, which are estimated to result in a total annual burden of 190 hours. For respondents who decline to complete the survey, an estimated 2 minutes of burden per contact attempt will be applied.

Respondents: Managers of processing facilities that produce oils and fats from animals, grains, oilseeds, nuts, tree fruits, or vegetables; or operations involved in storing, rendering, or marketing these products. Managers of ethanol plants, cotton gins, and flour mills are also included.

Estimated Number of Respondents: 650.

Estimated Total Annual Burden on Respondents: 2,400 hours.

Comments: Comments are invited on: (a) whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, technological or other forms of information technology collection methods.

All responses to this notice will become a matter of public record and be summarized in the request for OMB approval.

Signed at Washington, DC, December 10, 2025.
Jody R. McDaniel,
Associate Administrator.

[FR Doc. 2025-22667 Filed 12-11-25; 8:45 am]

BILLING CODE 3410-20-P